DEPARTMENT OF ENERGY

Federal Energy Regulatory Commission

Combined Notice of Filings #2

Take notice that the Commission received the following electric rate filings:

Docket Numbers: ER10-1276-008; ER10-1287-007; ER10-1292-007; ER10-1303-007; ER10-1319-009; ER10-1353-009.

Applicants: Consumers Energy Company, CMS Energy Resource Management Company, Grayling Generating Station Limited Partnership, Genesee Power Station Limited Partnership, CMS Generation Michigan Power, LLC, Dearborn Industrial Generation, L.L.C.

Description: Supplement to May 31, 2018 Notice of Non-Material Change-In-Status of Consumer Energy Company, et al.

Filed Date: 12/20/18.

Accession Number: 20181220-5208.

Comments Due: 5 p.m. ET 1/10/19.

Docket Numbers: ER10-2390-004.

Applicants: Bicent (California) Malburg LLC.

Description: Updated Market Power Analysis for the Southwest Region of Bicent (California) Malburg LLC.

Filed Date: 12/20/18.

Accession Number: 20181220-5190.

Comments Due: 5 p.m. ET 2/19/19.

Docket Numbers: ER12-1946-012; ER10-1333-012; ER13-2387-006; ER15-190-009; ER17-543-006; ER18-1343 003.

Applicants: Duke Energy Beckjord, LLC, Duke Energy Florida, LLC, Duke Energy Commercial Enterprises, Inc., Duke Energy Renewable Services, LLC, Duke Energy SAM, LLC, Carolina Solar Power, LLC.

Description: Notice of Change in Status of the Duke MBR Sellers.

Filed Date: 12/20/18.

Accession Number: 20181220-5192.

Comments Due: 5 p.m. ET 1/10/19.

Docket Numbers: ER18-920-001.

Applicants: Marco DM Holdings, L.L.C.

Description: Triennial Market Power Update for the Southwest Power Pool Region of Marco DM Holdings, L.L.C.

Filed Date: 12/20/18.

Accession Number: 20181220-5218.

Comments Due: 5 p.m. ET 2/19/19.

Docket Numbers: ER18-1646-001.

Applicants: Electric Energy, Inc.

Description: eTariff filing per 1450: Amended Show Cause Response to be effective 3/21/2018.

Filed Date: 12/20/18.

Accession Number: 20181220-5125.

Comments Due: 5 p.m. ET 1/10/19.

Docket Numbers: ER19-132-001.

Applicants: Niagara Mohawk Power Corporation, New York Independent System Operator, Inc.

Description: Compliance filing: NMPC Compliance: Depreciation Rates to be effective 4/1/2018.

Filed Date: 12/20/18.

Accession Number: 20181220-5127.

Comments Due: 5 p.m. ET 1/10/19.

Docket Numbers: ER19-329-001.

Applicants: AEP Texas Inc.

Description: Tariff Amendment: AEPTX-Shakes Solar Interconnection Agreement First Amend & Restated to be effective 12/14/2018.

Filed Date: 12/20/18.

Accession Number: 20181220-5106.

Comments Due: 5 p.m. ET 1/10/19.

Docket Numbers: ER19-627-000.

Applicants: Florida Power & Light Company.

Description: § 205(d) Rate Filing: FPL-FMPA Revision to Transmission Service Agreement No. 274 to be effective 12/17/2018.

Filed Date: 12/20/18.

Accession Number: 20181220-5126.

Comments Due: 5 p.m. ET 1/10/19.

Docket Numbers: ER19-628-000.

Applicants: Community Wind North 9 LLC.

Description: § 205(d) Rate Filing: Category 1 Seller Status Notification & Revised MBR Tariff to be effective 12/21/2018.

Filed Date: 12/20/18.

Accession Number: 20181220-5172.

Comments Due: 5 p.m. ET 1/10/19.

Docket Numbers: ER19-629-000.

Applicants: Community Wind North 10 LLC.

Description: § 205(d) Rate Filing: Category 1 Seller Status Notification & Revised MBR Tariff to be effective 12/21/2018.

Filed Date: 12/20/18.

Accession Number: 20181220-5188.

Comments Due: 5 p.m. ET 1/10/19.

Docket Numbers: ER19-630-000.

Applicants: Community Wind North 11 LLC

Description: § 205(d) Rate Filing: Category 1 Seller Status Notification & Revised MBR Tariff to be effective 12/21/2018.

Filed Date: 12/20/18.

Accession Number: 20181220-5206.

Comments Due: 5 p.m. ET 1/10/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 20, 2018.
Nathaniel J. Davis, Sr.,
Deputy Secretary.

[FR Doc. 2018-28256 Filed 12-27-18; 8:45 am]

BILLING CODE 6717-01-P